DEPARTMENT OF COMMERCE

National Oceanic and Atmospheric Administration

RIN 0648-XF085

Marine Mammals; File Nos. 18059 and 19655

AGENCY: National Marine Fisheries Service (NMFS), National Oceanic and Atmospheric Administration (NOAA), Commerce.

ACTION: Notice; receipt of applications.

SUMMARY: Notice is hereby given that David Wiley, Ph.D., Stellwagen Bank National Marine Sanctuary, 175 Edward Foster Road, Scituate, MA 02066 and Adam Pack, Ph.D., University of Hawaii at Hilo, 200 West Kawili Street, Hilo, HI 96720, have applied in due form for permits to conduct scientific research on cetaceans.

DATES: Written, telefaxed, or email comments must be received on or before February 13, 2017.

ADDRESSES: The applications and related documents are available for review by selecting “Records Open for Public Comment” from the “Features” box on the Applications and Permits for Protected Species (APPS) home page, https://apps.nmfs.noaa.gov, and then selecting File No. 18059 or 19655 from the list of available applications.

These documents are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on these applications would be appropriate.

FOR FURTHER INFORMATION CONTACT: Sara Young or Amy Hapeman (File No. 18059), Carrie Hubard or Shasta McClenahan (File No. 19655), (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

File No. 18059: The applicant requests a five-year scientific research permit to investigate the foraging ecology, habitat use, physiology, and acoustic and social behavior of humpback (Megaptera noveaeangliae), fin (Balaenoptera physalus), minke (B. acutorostrata), and sei (B. borealis) whales in the Gulf of Maine. Up to 130 adult and juvenile humpbacks, 90 fin, 60 minke, and 70 sei whales would be approached for suction cup tagging, prey mapping, obtaining biological samples including biopsies, and photo ID. Up to 10 humpback calves, 5 fin calves, and 4 sei calves would also be approached for tagging and blow sampling. Up to 690 humpback, 480 fin, 250 minke, and 370 sei whales would be incidentally harassed during this research.

File No. 19655: The applicant proposes to study humpback whales and other cetacean species in the waters off the Hawaiian Islands and Alaska. Research methods include passive acoustics, photo-identification, photogrammetry, opportunistic collection of fecal and skin samples, and remote biopsy sampling. A subset of humpback whales would also receive suction cup tags. Other endangered species targeted for study include: Blue (B. musculus), bowhead (Balaena mysticetus), fin, North Pacific right (Eubalaena japonica), sei, and sperm whales (Physeter macrocephalus) and the Main Hawaiian Insular stock of false killer whales (Pseudorca crassidens). An additional 21 marine mammal species would also be studied. The objectives of the research are to continue the long-term population study of the behavior, biology, and communication systems of humpback whales and other cetaceans. Specific topics to be investigated include individual life histories, social roles, migration, habitat use, distribution, and evolution of humpback song. The permit would be valid for five years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: January 6, 2017.
Julia Harrison,
Chief, Permits and Conservation Division, Office of Protected Resources, National Marine Fisheries Service.

[FR Doc. 2017-00472 Filed 1-11-17; 8:45 am]

BILLING CODE 3510-22-P